DEPARTMENT OF COMMERCE

National Oceanic and Atmospheric Administration

[I.D. 121704A]

Fisheries Off West Coast States and in the Western Pacific; Western Pacific Pelagic Fisheries; Highly Migratory Species Fisheries; Overfishing Determination for Bigeye Tuna

AGENCY: National Marine Fisheries Service (NMFS), National Oceanic and Atmospheric Administration (NOAA), Commerce.

ACTION: Notice of overfishing determination.

SUMMARY: This action serves as notice that NMFS, on behalf of the Secretary of Commerce (Secretary), has determined that overfishing is occurring Pacific-wide on bigeye tuna (Thunnus obesus), and requests the Western Pacific Fishery Management Council and the Pacific Fishery Management Council (Councils) to take appropriate action by June 14, 2005, to end overfishing. The intent of this action is to notify interested persons that bigeye tuna is undergoing overfishing in the Pacific Ocean.

SUPPLEMENTARY INFORMATION: The following reprint of a December 15, 2004, letter from NMFS to the Councils notifies the Councils of a determination that overfishing is occurring Pacific-wide on bigeye tuna, provides the background on how NMFS made the determination, provides the legal basis for the Councils to act in response to a determination that overfishing is occurring, and requests the Councils to take appropriate action to end overfishing on bigeye tuna.

Dear Chairmen Morioka and Hansen,

This letter is to advise the Western Pacific Fishery Management Council and the Pacific Fishery Management Council (Councils) that the National Marine Fisheries Service (NMFS), on behalf of the Secretary of Commerce (Secretary), has determined that overfishing is occurring Pacific-wide on bigeye tuna (Thunnus obesus), and to request the Councils to take appropriate action to end overfishing.

Determination

The Magnuson-Stevens Fishery Conservation and Management Act (Magnuson-Stevens Act) requires that the Secretary report annually on the status of fisheries within each regional fishery management council's geographical area of authority and identify those fisheries that are overfished or approaching a condition of being overfished (16 U.S.C. 1854(e)(1)). According to the guidelines for National Standard 1 of the Magnuson-Stevens Act (50 CFR 600.310), fishery stock status is assessed with respect to two status determination criteria, one of which is used to determine whether a stock is “overfished” and the second of which is used to determine whether the stock is subject to “overfishing.” A stock is considered to be overfished if its biomass falls below the minimum stock size threshold (MSST). A stock is subject to overfishing if the fishing mortality rate exceeds the maximum fishing mortality threshold (MFMT) for one year. The MSST and MFMT for particular stocks are specified in fishery management plans.

Based on the MFMT specifications for bigeye tuna in the Fishery Management Plan for the Pelagic Fisheries of the Western Pacific Region, effective July 3, 2003 (68 FR 46112, August 5, 2003), and in the Fishery Management Plan for U.S. West Coast Fisheries for Highly Migratory Species, approved February 4, 2004, the MFMT would be exceeded if the fishing mortality rate exceeded the rate associated with maximum sustainable yield (MSY). Recent assessments of the status of bigeye tuna in the Pacific, described below, indicate that the fishing mortality rate has, for at least one year, been greater than the rate associated with MSY. According to these assessments and the MFMT specifications in the two fishery management plans, therefore, overfishing is occurring.

The stock structure of bigeye tuna in the Pacific Ocean is unresolved. Bigeye tuna in the Pacific has been assessed using two different approaches, one that treats it as a single Pacific-wide stock and the other that treats it as two stocks, one in the western and central Pacific, corresponding to the area of interest of the Secretariat of the Pacific Community (SPC), and the other in the eastern Pacific, corresponding to the area of authority of the Inter-American Tropical Tuna Commission (IATTC). This overfishing determination relies on assessment results from both these approaches but it does not rely on any assumptions or conclusions about stock structure.

The most recent stock assessments continued the separate stock approach used by IATTC and SPC. An assessment for the western and central Pacific was completed in July 2004¹ and an assessment for the eastern Pacific was completed in May 2004.² A Pacific-wide stock assessment, including comparisons with results from separate stock assessments, was completed in July 2003.³

¹ Hampton, J., P. Kleiber, A. Langley, and K. Hiramatsu. 2004. Stock assessment of bigeye tuna in the western and central Pacific Ocean. SCTB17 Working Paper SA-2. 17th Meeting of the Standing Committee on Tuna and Billfish, Majuro, Marshall Islands, 9-18 August 2004. July 2004.

² Harley, S.J. and M.N. Maunder. 2004. Status of Bigeye Tuna in the Eastern Pacific Ocean in 2003 and Outlook for 2004. Working Group on Stock Assessments, 5th Meeting, La Jolla, California (USA), 11-13 May 2004, Document SAR-5-05 BET. Inter-American Tropical Tuna Commission.

³ Hampton, J., P. Kleiber, Y. Takeuchi, H. Kurota, and M. Maunder. 2003. Stock assessment of bigeye tuna in the western and central Pacific Ocean, with comparisons to the entire Pacific Ocean. SCTB16 Working Paper BET-1. Sixteenth Meeting of the Standing Committee on Tuna and Billfish, Mooloolaba, Queensland, Australia, 9-16 July 2003.

The July 2004 assessment for the western and central Pacific indicates that there is a probability of at least 67 percent that the recent fishing mortality rate exceeded the fishing mortality rate associated with MSY.

The May 2004 assessment results for the eastern Pacific indicate that in all scenarios considered, the recent fishing mortality rate exceeded the rate associated with average MSY.

The results of the collaborative July 2003 assessment for the western and central Pacific and for the Pacific Ocean as a whole were similar in that the recent fishing mortality rate in both cases exceeded the fishing mortality rate associated with MSY. While the results with respect to fishing mortality were uncertain for both stock assumptions, there was a high degree of correspondence between the estimates of stock trends for the western and central Pacific and those for the Pacific as a whole.

Based on these assessment results for bigeye tuna in the Pacific Ocean, NMFS, relying on the expertise and advice of its regional Fisheries Science Centers, has determined that overfishing is occurring Pacific-wide on bigeye tuna.

Notification

As required by the Magnuson-Stevens Act (16 U.S.C. 1854(e)(2)) and the implementing regulations at 50 CFR 600.310(e)(2), the Councils are notified by way of this letter that the Secretary has determined that overfishing is occurring Pacific-wide on bigeye tuna. The Councils must take appropriate action to address this overfishing. As required by the Magnuson-Stevens Act (16 U.S.C. 1854(e)(3)) and the implementing regulations at 50 CFR 600.310(e)(3), the Councils must take remedial action to end overfishing within one year of an identification by the Secretary that overfishing is occurring. In the case of Pacific bigeye tuna, such an identification was made in the annual report to the Congress and the Council on the status of fisheries in 2003. This report was transmitted to the Congress on June 15, 2004, so the one-year period for Councils to take remedial action ends June 14, 2005.

Pacific bigeye tuna occurs in the waters of multiple nations and the high seas and is fished by the fleets of other nations in addition to those of the U.S. The capacity for unilateral action by the U.S. to prevent overfishing, as required under National Standard 1 of the Magnuson-Stevens Act (16 U.S.C. 1851(a)(1)), is limited, as is the capacity for action taken by the Councils to end overfishing, as required under 50 CFR 600.310(e)(4)(i). Multilateral management action is essential to ensure that overfishing on bigeye tuna in the Pacific Ocean ends. NMFS will work with the Department of State, the regional fishery management councils, industry, and other interests to promote conservation and management measures in international and regional fishery management organizations to prevent further overfishing and ensure that bigeye tuna in the Pacific Ocean does not become overfished.

Sincerely,

William L. Robinson,

Regional Administrator, Pacific Islands Region

Rodney McInnis,

Regional Administrator, Southwest Region

Dated: December 23, 2004.
Alan D. Risenhoover,
Acting Director, Office of Sustainable Fisheries, National Marine Fisheries Service.

[FR Doc. 04-28632 Filed 12-29-04; 8:45 am]

BILLING CODE 3510-22-P